DEPARTMENT OF AGRICULTURE

Rural Business—Cooperative Service

Notice of Request for Extension of a Currently Approved Information Collection

AGENCY: Rural Business—Cooperative Service, USDA.

ACTION: Proposed collection; comments requested.

SUMMARY: In accordance with the Paperwork Reduction Act of 1995, this notice announces the Rural Business—Cooperative Service's intention to request an extension for a currently approved information collection in support of the program for 7 CFR Part 1942-G Rural Business Enterprise Grants and Television Demonstration Grants.

DATES: Comments on this notice must be received by May 22, 2000 to be assured of consideration.

FOR FURTHER INFORMATION CONTACT: Carole Boyko, Rural Development Loan Specialist, Rural Business—Cooperative Service, USDA, Specialty Lenders Division, Stop 3325, 1400 Independence Avenue SW, Washington, DC 20250-3325. Telephone: (202) 720-0661.

SUPPLEMENTARY INFORMATION: Title: RBS/Rural Business Enterprise Grants and Television Demonstration Grants.

OMB Number: 0570-0132.

Expiration Date of Approval: May 31, 2000.

Type of Request: Extension of a currently approved information collection.

Abstract: The objective of the RBEG program is to facilitate the development of small and emerging private businesses in rural areas. This purpose is achieved through grants made by RBS to public bodies and nonprofit corporations. Television Demonstration grants are available to private nonprofit public television systems to provide information on agriculture and other issues of importance to farmers and the rural residents. The regulations contain various requirements for information from the grantees, and some requirements may cause the grantees to require information from other parties. The information requested is vital for RBS to be able to process applications in a responsible manner, make prudent program decisions, and effectively monitor the grantees' activities to protect the Government's financial interest and ensure that funds obtained from the Government are used appropriately. It includes information used to determine eligibility; the specific purposes for which grant funds will be used; timeframes; who will be carrying out the grant purposes; project priority; applicant experience; employment improvement; and mitigation of economic distress.

Estimate of Burden: Public reporting burden for this collection of information is estimated to average 1.95 hours per response.

Respondents: Non-profit corporations, public bodies.

Estimated Number of Respondents: 720.

Estimated Number of Responses per Respondent: 28.94.

Estimated Total Annual Burden on Respondents: 40,650 hours.

Copies of this information collection can be obtained from Jean Mosley, Regulations and Paperwork Management Branch at (202) 692-0041.

Comments

Comments are invited on: (a) Whether the proposed collection of information is necessary for the proper performance of the functions of Rural Business—Cooperative Service, including whether the information will have practical utility; (b) the accuracy of Rural Business—Cooperative Service estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Jean Mosley, Regulations and Paperwork Management Branch, U.S. Department of Agriculture, Rural Development, STOP 0742, 1400 Independence Ave. SW, Washington, DC 20250. All responses to this notice will be summarized and included in the request for OMB approval. All comments will also become a matter of public record.

Dated: March 14, 2000.
Dayton J. Watkins,
Administrator, Rural Business—Cooperative Service.

[FR Doc. 00-7035 Filed 3-21-00; 8:45 am]

BILLING CODE 3410-XY-P